DEPARTMENT OF HEALTH AND HUMAN SERVICES

Substance Abuse and Mental Health Services Administration

Center for Mental Health Services; Notice of Meeting

Pursuant to Public Law 92-463, notice is hereby given that the Substance Abuse and Mental Health Services Administration (SAMHSA), Center for Mental Health Services (CMHS) National Advisory Council (NAC) will meet on April 22, 2019, from 11:00 a.m. to 1:00 p.m. (EDT).

The meeting is open and will include consideration of minutes from the August 1, 2018 SAMHSA, CMHS NAC meeting; updates from the CMHS Directors Report, the Hotline Improvement Act, and future NAC meetings.

The meeting will be held via WebEx and telephone only. Interested persons may present data, information, or views, orally or in writing, on issues pending before the Council. Written submissions should be forwarded to the contact person on or before April 15, 2019. Oral presentations from the public will be scheduled at the conclusion of the meeting. Individuals interested in making oral presentation must notify the contact person on or before April 15, 2019. Three minutes will be allotted for each presentation.

This is an open public meeting that will be conducted via WebEx and telephone. Registration is reuired to participate during this meeting. To attend virtually, or to obtain the call-in number and access code, submit written or brief oral comments, or request special accommodation for persons with disabilities, register on-line at: http://snacregister.samhsa.gov/MeetingList.aspx or comminicate with the CMHS National Advisory Council Designated Federal Officer, Pamela Foote (see contact information below).

Meeting information and a roster of Council members may be obtained either by accessing the SAMHSA Council website at: http://www.samhsa.gov/about-us/advisory-councils/cmhs-national-advisory-council or by contacting Ms. Pamela Foote (see contact information below).

Council Name: Substance Abuse and Mental Health Services Administration Center for Mental Health Services National Advisory Council.

Date/Time/Type: Monday, April 22, 2019, 11:00 a.m. to 1:00 p.m., EDT, OPEN.

Place: SAMHSA, 5600 Fishers Lane, Rockville, Maryland 20857.

Contact: Pamela Foote, Designated Federal Officer, CMHS National Advisory Council, 5600 Fishers Lane, Room 14E53C, Rockville, Maryland 20857, Telephone: (240) 276-1279, Fax: (301) 480-8491, Email: pamela.foote@samhsa.hhs.gov.

Dated: March 26, 2019.
Carlos Castillo,
Committee Management Officer, Substance Abuse and Mental Health Services Administration.

[FR Doc. 2019-06081 Filed 3-28-19; 8:45 am]

BILLING CODE 4162-20-P